ENVIRONMENTAL PROTECTION AGENCY

[ER-FRL-6658-8]

Environmental Impact Statements; Notice of Availability

Responsible Agency: Office of Federal Activities, General Information (202) 564-7167 or http://www.epa.gov/compliance/nepa/.

Weekly receipt of Environmental Impact Statements

Filed December 13, 2004 Through December 17, 2004

Pursuant to 40 CFR 1506.9.

EIS No. 040584, Final EIS, BLM, NV, Las Vegas Valley Disposal Boundary Project, Disposal and Use of Public Land under the Management of (BLM), Implementation, Clark County, NV, Wait Period Ends: January 24, 2005, Contact: Mark Morse (702) 515-5220.

This document is available on the Internet at: http://www.nv.blm.gov/lvdiseis.

EIS No. 040585, Draft EIS, FHW, NE, Bellevue Bridge Study, To Improve Connectivity between the Omaha Metropolitan Area and across the Missouri River from U.S. 75 to I-29, Coast Guard Permit, NPDES Permit, U.S. Army COE Section 10 and 404 Permits, Mills County, IA and Sarpy County, NE, Comment Period Ends: February 28, 2005, Contact: Philip Barnes (515) 233-7300.

EIS No. 040586, Draft EIS, FHW, WA, WA-28 Eastside Corridor Project, Proposal to Improve WA-28 (Sunset Highway) Corridor from WA-2-97 (Ocdabashian Bridge) to 9th Street N.E. in East Wenatchee, City of East Wenatchee, Douglas County, WA, Comment Period Ends: February 27, 2005, Contact: Steve Saxton (360) 753-9411.

This document is available on the Internet at: http://www.wsdot.wa.gov/Projects/SR28Wenatchee EastsideCorridor/.

EIS No. 040587, Final EIS, DHS, MD, National Biodefense Analysis and Countermeasures Center (NBACC) Facility at Fort Detrick, Construction and Operation, Fort Detrick, Frederick County, MD, Wait Period Ends: January 24, 2005, Contact: Kevin Anderson (301) 846-2156.

EIS No. 040588, Draft EIS, FHW, IA, NE, Council Bluffs Interstate System Improvements Project, Transportation Improve from Missouri River on I-80 to East of the I-480 Interchange, (Tier 1), Pottawattamie County, IA and Douglas County, NE, Comment Period Ends: February 28, 2005, Contact: Philip Barnes (515) 233-7300.

EIS No. 040589, Final Supplement, AFS, AK, Kensington Gold Project, Proposed Modifications of the 1998 Approved Plan Operation, NPDES, ESA and U.S. COE Section 10 and 404 Permits, Tongass National Forest, City of Juneau, AK, Wait Period Ends: January 24, 2005, Contact: Jeff Defreest (907) 790-7407.

EIS No. 040590, Draft EIS, AFS, WA, White Pass Expansion Master Development Plan, Implementation, Naches Ranger District, Okanogan-Wenatchee National Forests and Cowwlitz Valley Ranger District, Gifford Pinchot National Forest, Yakima and Lewis County, WA , Comment Period Ends: February 22, 2005, Contact: Randy Shepard (509) 653-1400.

EIS No. 040591, Draft EIS, FRC, TX, Vista del Sol Liquefield Natural Gas (LNG) Terminal Project, Construct, Install and Operate an LNG Terminal and Natural Gas Pipeline Facilities, Vista del Sol LNG Terminal LP and Vista del Sol Pipeline LP, TX, Comment Period Ends: February 7, 2005, Contact: Thomas Russo (202) 502-8004.

EIS No. 040592, Final EIS, SFW, CO, Rocky Flats National Wildlife Refuge Comprehensive Conservation Plan, 15-Year Guidance for Management of Refuge Operations, Habitat Restoration and Visitor Services, Implementation, Jefferson and Boulder Counties, CO, Wait Period Ends: January 24, 2005, Contact: Laurie Shannon (303) 289-0151.

EIS No. 040593, Draft EIS, AFS, CO, County Line Vegetation Management Project, Salvaging Spruce Beetle Infected Trees and Thinning Spruce-Fir Stand, Rio Grande National Forest, Conejos Peak Ranger District, Conejos County, CO, Comment Period Ends: February 7, 2005, Contact: John Murphy (719) 852-5941.

EIS No. 040594, Final EIS, FTA, VA, Dulles Corridor Rapid Transit Project, High-Quality and High-Capacity Transit Service in the Dulles Corridor, West Falls Church Metrorail Station in Fairfax County to the Vicinity of Route 772 in Loudoun County, VA, Wait Period Ends: January 24, 2005, Contact: Patricia Kampf (215) 656-7100.

Amended Notices

EIS No. 040505, Draft EIS, USA, Battle Area Complex (BAX) and a Combined Arms Collective Training Facility (CACTF) Construction and Operation, U.S. Army Training Lands in Alaska, Comment Period Ends: January 10, 2005, Contact: Kevin Gardner (907) 384-3331. Revision of FR Notice Published on 11/05/04: CEQ Comment Period Ending 12/20/2004 has been Extended to 01/10/2005.

EIS No. 040557, Draft EIS, AFS, AK, Tuxekan Island Timber Sale(s) Project, Harvesting Timber, Coast Guard Bridge Permit and U.S. Army COE Section 10 and 404 Permits, Tongass National Forest, Thorne Bay Ranger District, Thorne Bay, AK, Comment Period Ends: January 24, 2005, Contact: Forrest Cole (907) 228-6200. Revision of FR Notice Published on 12/10/2004: Correction to Contact Person Telephone Number.

Dated: December 20, 2004.
Robert W. Hargrove,
Director, NEPA Compliance Division, Office of Federal Activities.

[FR Doc. 04-28097 Filed 12-22-04; 8:45 am]

BILLING CODE 6560-50-P